DEPARTMENT OF DEFENSE

Department of the Army, Corps of Engineers

33 CFR Part 334

United States Navy Restricted Area, Menominee River, Marinette Marine Corporation Shipyard, Marinette, WI; Corrections

AGENCY: U.S. Army Corps of Engineers, DoD.

ACTION: Correcting amendments.

SUMMARY: The U.S. Army Corps of Engineers published a document in the Federal Register on May 24, 2011 (76 FR 30024), amending its regulations to establish a restricted area in the waters of the Menominee River at the Marinette Marine Corporation Shipyard in Marinette, Wisconsin. That document inadvertently included latitude and longitude coordinates for the restricted area boundary that resulted in encroachment into a Federal navigation project. This document corrects the final rule by revising the latitude and longitude coordinates listed in § 334.815 (a) to reduce the restricted area so that it does not encroach on the Federal navigation project. The document also listed the Department of the Navy organization responsible for administration and enforcement of the restricted area as the Supervisor of Shipbuilding, Conversion, and Repair Gulf Coast (SUPSHIP Gulf Coast). After the document was published, the Department of the Navy revised the mission, functions, and tasks of the Supervisors of Shipbuilding, Conversion and Repair organization. This organizational revision changed the administrative and enforcement responsibilities for the subject restricted area from SUPSHIP Gulf Coast to SUPSHIP Bath, Maine. This document corrects the final rule by revising § 334.815 (b) and (c) to reflect the organizational change.

DATES: Effective date: April 4, 2012.

FOR FURTHER INFORMATION CONTACT: Mr. David Olson, Headquarters, Operations and Regulatory Community of Practice, Washington, DC at 202-761-4922 or by email at david.b.olson@usace.army.mil or Mr. Todd Vesperman, U.S. Army Corps of Engineers, St. Paul District, Regulatory Branch, at 920-448-2824 or by email at todd.m.vesperman@usace.army.mil.

SUPPLEMENTARY INFORMATION: The U.S. Army Corps of Engineers published a final rule in the Federal Register on May 24, 2011 (76 FR 30024), and later determined that correcting amendments need to be made to address encroachment into a Federal navigation channel and a change in the enforcing authority that occurred as a result of the Department of the Navy revising the mission, functions, and tasks of the Supervisors of Shipbuilding, Conversion and Repair (SUPSHIPs) organization. That organizational revision changed administrative and enforcement responsibilities for the subject restricted area from SUPSHIP Gulf Coast to SUPSHIP Bath, Maine. This correcting amendment changes the latitude and longitude coordinates in § 334.815(a) so that the restricted area will not encroach into the Federal navigation project. This correcting amendment also changes the administrative and enforcement responsibilities in § 334.815(b) and (c) for the subject restricted area from SUPSHIP Gulf Coast to SUPSHIP Bath, Maine.

List of Subjects in 33 CFR Part 334

Danger zones, Marine safety, Navigation (water), Restricted areas, Waterways.

For the reasons stated in the preamble, 33 CFR part 334 is corrected by making the following correcting amendments:

PART 334—DANGER ZONE AND RESTRICTED AREA REGULATIONS

1. The authority citation for 33 CFR part 334 continues to read as follows:

Authority: 40 Stat. 266 (33 U.S.C. 1) and 40 Stat. 892 (33 U.S.C. 3).

2. Revise § 334.815 to read as follows:

§ 334.815 Menominee River, at the Marinette Marine Corporation Shipyard, Marinette, Wisconsin; Naval Restricted Area.

(a) The area. The waters adjacent to Marinette Marine Corporation's pier defined by a rectangular shaped area on the south side of the river beginning on shore at the eastern property line of Marinette Marine Corporation at latitude 45°5′58.7″ N, longitude 087°36′55.9″ W; thence northerly to latitude 45°5′59.2″ N, longitude 087°36′55.8″ W; thence westerly to latitude 45°5′59.6″ N, longitude 087°36′57.5″ W; thence westerly to latitude 45°6′00.0″ N, longitude 087°36′58.7″ W; thence westerly to latitude 45°6′1.7″ N, longitude 087°37′4.9″ W; thence westerly to latitude 45°6′2.8″ N, longitude 087°37′9.8″ W; thence southerly to latitude 45°6′2.2″ N, longitude 087°37′10.0″ W; thence easterly along the Marinette Marine Corporation pier to the point of origin. The restricted area will be marked by a lighted and signed floating buoy line.

(b) The regulation. All persons, swimmers, vessels and other craft, except those vessels under the supervision or contract to a local military or Naval authority, vessels of the United States Coast Guard, and local or state law enforcement vessels, are prohibited from entering the restricted area when marked by a signed floating buoy line without permission from the Supervisor of Shipbuilding, Conversion and Repair, United States Navy, Bath, Maine or his/her authorized representative.

(c) Enforcement. The regulation in this section shall be enforced by the Supervisor of Shipbuilding, Conversion and Repair, United States Navy, Bath, Maine and/or such agencies or persons as he/she may designate.

Dated: March 29, 2012.
Richard C. Lockwood,
Chief, Operations and Regulatory, Directorate of Civil Works.

[FR Doc. 2012-8120 Filed 4-3-12; 8:45 am]

BILLING CODE 3720-58-P